GENERAL SERVICES ADMINISTRATION

[Notice-MG-2018-03; Docket No. 2018-0002; Sequence No. 35]

Office of Federal High-Performance Buildings; Green Building Advisory Committee; Notification of Upcoming Conference Calls

AGENCY: Office of Government-Wide Policy, General Services Administration (GSA).

ACTION: Meeting notice.

SUMMARY: Notice of this meeting and these conference calls is being provided according to the requirements of the Federal Advisory Committee Act. This notice provides the agendas and schedules for the May 16, 2019 meeting of the Green Building Advisory Committee (the Committee), as well as the schedule for a series of conference calls for two task groups of the Committee.

DATES:

Meeting date: The spring meeting of the Committee will be held on Thursday, May 16, 2019, starting at 10 a.m. Eastern Daylight Time (EDT), and ending no later than 4 p.m. EDT.

The two subcommittees will have alternate weekly conference calls, one call every other week, beginning Wednesday, January 9, 2019, through Wednesday, May 8, 2019, from 3 p.m. to 4 p.m.

The Building and Grid Integration Task Group, Phase II will hold recurring, bi-weekly conference calls on Wednesdays beginning January 9, 2019, through May 1, 2019, from 3 p.m. to 4 p.m., EDT.

The Data-Integrated Building Systems Task Group will hold recurring, weekly conference calls on Wednesdays, beginning January 16, 2019, through May 8, 2019, from 3 p.m. to 4 p.m., EDT.

ADDRESSES: The meeting will be held at 1800 F Street NW, Room 1425, Washington, DC 20405. The in-person meeting is open to the public and the site is accessible to individuals with disabilities. The task group conference calls are open for the public to listen in. Interested individuals must register to attend as instructed below under Supplementary Information.

FOR FURTHER INFORMATION CONTACT: Mr. Michael Bloom, Group Federal Officer, Office of Federal High-Performance Buildings, Office of Government-wide Policy, General Services Administration, 1800 F Street NW, Washington, DC 20405, at email address michael.bloom@gsa.gov. Additional information about the Committee, including meeting materials and agendas, will be available on-line at http://www.gsa.gov/gbac.

SUPPLEMENTARY INFORMATION:

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

The purpose of the GBAC Meeting is to convene experts in buildings, including architects, material suppliers, construction contractors, environment, health, security and transportation to accelerate the successful transformation of the Federal building portfolio to sustainable technologies and practices.

The Building and Grid Integration Task Group, Phase II will build on the recommendations of the first phase of this Task Group, to prioritize federal building and grid integration strategies and develop implementation plans and scenarios with future rate structures, including consideration of EVs and energy storage.

The Data-Integrated Building Systems Task Group will document and recognize data-integrated building system (e.g., smart building system) use cases that demonstrate the business case and quantify the multiple benefits of integrating building technologies and systems.

The conference calls will allow the task groups to develop consensus recommendations to the full Committee, which will, in turn, decide whether to proceed with formal advice to GSA based upon these recommendations.

Meeting participants will provide advice and expertise regarding how the Office of Federal High-Performance Buildings can most effectively accomplish its mission. Subcommittees will present their findings to the full committee for feedback and direction. Participants will discuss topics about which the Committee would like to engage, especially those related to market failures that the Federal government might substantially impact with cost-effective solutions.

Procedures for Attendance and Public Comment

Contact Mr. Michael Bloom at michael.bloom@gsa.gov to register to attend the in-person meeting or listen to any of these conference calls. To attend any of these events, submit your full name, organization, email address, and phone number, and which you would like to attend. Requests to attend the conference calls must be received by 5:00 p.m. EDT; on Friday, January 4, 2019 (GSA will be unable to provide technical assistance to any listener experiencing technical difficulties. Testing access to the Web meeting site before the calls is recommended). Requests to attend the May 16, 2019 meeting must be received by 5:00 p.m., EDT, on Friday, January 4, 2019.

Contact Mr. Bloom to register to comment during the May 16, 2019 meeting public comment period. Registered speakers/organizations will be allowed a maximum of five (5) minutes each, and will need to provide written copies of their presentations. Requests to comment at the meeting must be received by 5:00 p.m., EDT, on Friday, January 4, 2019. Written comments may be provided to Mr. Bloom by the same deadline.

May 16, 2019 Meeting Agenda

• Updates and introductions.

• Building-grid integration task group findings & recommendations.

• Lunchtime speaker (TBD).

• Data-integrated building systems task group findings & recommendations.

• Additional topics proposed by Committee members.

• Public comment.

• Next steps and closing comments.

Dated: December 12, 2018.
Kevin Kampschroer,
Federal Director, Office of Federal High-Performance Buildings, General Services Administration.

[FR Doc. 2018-27437 Filed 12-18-18; 8:45 am]

BILLING CODE 6820-14-P